DEPARTMENT OF COMMERCE

International Trade Administration

[C-428-848, C-533-894, C-475-841, C-570-116]

Forged Steel Fluid End Blocks From the Federal Republic of Germany, India, Italy and the People's Republic of China: Initiation of Countervailing Duty Investigations

AGENCY: Enforcement and Compliance, International Trade Administration, Department of Commerce.

DATES: Applicable January 8, 2020.

FOR FURTHER INFORMATION CONTACT: Robert Palmer at (202) 482-9068 (Germany), Ethan Talbot at (202) 482-1030 (India and Italy), and Janae Martin at (202) 482-0238 (China), AD/CVD Operations, Enforcement and Compliance, International Trade Administration, U.S. Department of Commerce, 1401 Constitution Avenue NW, Washington, DC 20230.

SUPPLEMENTARY INFORMATION:

The Petitions

On December 19, 2019, the U.S. Department of Commerce (Commerce) received countervailing duty (CVD) petitions concerning imports of forged steel fluid end blocks (fluid end blocks) from the Federal Republic of Germany (Germany), India, Italy and the People's Republic of China (China), filed in proper form on behalf of the FEB Fair Trade Coalition, Ellwood Group,¹ and Finkl Steel ² (collectively, the petitioners), domestic producers of fluid end blocks.³ The Petitions were accompanied by antidumping duty (AD) petitions concerning imports of fluid end blocks from Germany, India and Italy.⁴

¹ Ellwood City Forge Company, Ellwood Quality Steels Company, and Ellwood National Steel Company (collectively, the Ellwood Group).

² A. Finkl & Sons (Finkl Steel).

³ See Petitioners' Letter, “Petitions for the Imposition of Antidumping and Countervailing Duties: Forged Steel Fluid End Blocks from China, Germany, India, and Italy,” dated December 19, 2019 (the Petitions).

⁴ Id.

On December 23, 2019 and January 2, 2020, Commerce requested supplemental information pertaining to certain aspects of the Petitions in separate supplemental questionnaires.⁵ The petitioners filed responses to the supplemental questionnaires on December 30, 2019 through January 6, 2020.⁶ On January 6 and 7, 2020, the Governments of India and Italy, respectively, filed comments regarding the programs alleged in the Petitions.⁷

⁵ See Commerce's Letters, “Petitions for the Imposition of Antidumping Duties on Imports of Forged Steel Fluid End Blocks from the Federal Republic of Germany, India, and Italy and Countervailing Duties on Imports from the People's Republic of China, the Federal Republic of Germany, India, and Italy: Supplemental Questions,” (General Issues Supplemental); “Petition for the Imposition of Countervailing Duties on Imports of Forged Steel Fluid End Blocks from the People's Republic of China: Supplemental Questions;” “Petition for the Imposition of Countervailing Duties on Imports of Forged Steel Fluid End Blocks from the Federal Republic of Germany: Supplemental Questions;” “Petition for the Imposition of Countervailing Duties on Imports of Forged Steel Fluid End Blocks from India: Supplemental Questions;” and “Petition for the Imposition of Countervailing Duties on Imports of Forged Steel Fluid End Blocks from Italy: Supplemental Questions,” all dated December 23, 2019; see also Memorandum, “Phone Call with Counsel to the Petitioners,” dated January 2, 2020 (Phone Memo).

⁶ See Petitioners' Letters, “Fluid End Blocks from China, Germany, India and Italy: Amendment of Petitions and Response to Commerce's Supplemental Questions,” dated December 30, 2019 (Petition Supplement); “Fluid End Blocks from China, Germany, India and Italy: Second Amendment of Petitions,” dated January 3, 2020; and “Fluid End Blocks from China, Germany, India and Italy: Third Amendment of Petitions,” dated January 6, 2020.

⁷ See the Government of Italy's Letter dated January 7, 2020; see also the Government of India's Letter, “Pre-Initiation Consultation Note on the Petition for Initiation of Countervailing Duty Investigation on Forged Steel Fluid End Blocks from India,” dated January 6, 2020.

In accordance with section 702(b)(1) of the Tariff Act of 1930, as amended (the Act), the petitioners allege that the Governments of Germany, India, Italy and China are providing countervailable subsidies, within the meaning of sections 701 and 771(5) of the Act, to producers of fluid end blocks in Germany, India, Italy, and China, and that imports of such products are materially injuring, or threatening material injury to, the domestic fluid end blocks industry in the United States. Consistent with section 702(b)(1) of the Act and 19 CFR 351.202(b), for those alleged programs on which we are initiating CVD investigations, the Petitions are accompanied by information reasonably available to the petitioners supporting their allegations.

Commerce finds that the petitioners filed the Petitions on behalf of the domestic industry, because the petitioners are interested parties, as defined in sections 771(9)(C) and (F) of the Act. Commerce also finds that the petitioners demonstrated sufficient industry support necessary for the initiation of the requested CVD investigations.⁸

⁸ See infra, section on “Determination of Industry Support for the Petition.”

Periods of Investigation

Because the Petitions were filed on December 19, 2019, the periods of investigation (POI) are January 1, 2018 through December 31, 2018, or the most recently completed fiscal year for the foreign governments and all of the companies under investigation, provided the foreign governments and the companies have the same fiscal year.

Scope of the Investigations

The products covered by these investigations are fluid end blocks from Germany, India, Italy and China. For a full description of the scope of these investigations, see the Appendix to this notice.

Comments on the Scope of the Investigations

During our review of the Petitions, we contacted the petitioners regarding the proposed scope to ensure that the scope language in the Petitions is an accurate reflection of the products for which the domestic industry is seeking relief.⁹ As a result, the scope of the Petitions was modified to clarify the description of the merchandise covered by the Petitions.¹⁰ The description of the merchandise covered by these investigations, as described in the Appendix to this notice, reflects these clarifications.

⁹ See General Issues Supplemental.

¹⁰ See Petition Supplement.

As discussed in the Preamble to Commerce's regulations, we are setting aside a period for interested parties to raise issues regarding product coverage (scope).¹¹ Commerce will consider all comments received from interested parties and, if necessary, will consult with interested parties prior to the issuance of the preliminary determinations. If scope comments include factual information,¹² all such factual information should be limited to public information. To facilitate preparation of its questionnaires, Commerce requests that all interested parties submit such comments by 5:00 p.m. Eastern Time (ET) on January 28, 2020, which is 20 calendar days from the signature date of this notice. Any rebuttal comments, which may include factual information, must be filed by 5:00 p.m. ET on February 7, 2020, which is 10 calendar days from the initial comment deadline.¹³

¹¹ See Antidumping Duties; Countervailing Duties; Final Rule, 62 FR 27296, 27323 (May 19, 1997) (Preamble).

¹² See 19 CFR 351.102(b) (21) (defining “factual information”).

¹³ See 19 CFR 351.303(b).

Commerce requests that any factual information parties consider relevant to the scope of the investigations be submitted during this period. However, if a party subsequently finds that additional factual information pertaining to the scope of the investigations may be relevant, the party may contact Commerce and request permission to submit the additional information. All such submissions must be filed on the records of the concurrent AD and CVD investigations.

Filing Requirements

All submissions to Commerce must be filed electronically via Enforcement and Compliance's Antidumping Duty and Countervailing Duty Centralized Electronic Service System (ACCESS).¹⁴ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹⁴ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, which went into effect on August 5, 2011. Information on help using ACCESS can be found at https://access.trade.gov/help.aspx, and a handbook can be found at https://access.trade.gov/help/Handbook%20on%20Electronic%20Filling%20Procedures.pdf.

Consultations

Pursuant to sections 702(b)(4)(A)(i) and (ii) of the Act, Commerce notified representatives of the Governments of Germany, India, Italy and China of the receipt of the Petitions and provided them the opportunity for consultations with respect to the Petitions.¹⁵ Consultations were held with the Government of India on January 6, 2020, and with the Governments of Germany and Italy on January 8, 2020.¹⁶ The Government of China did not request consultations.

¹⁵ See Commerce's Letters, “Countervailing Duty Petition on Forged Steel Fluid End Blocks from the People's Republic of China: Invitation for Consultations” and “Countervailing Duty Petition on Forged Steel Fluid End Blocks from the Federal Republic of Germany: Invitation for Consultations,” both dated December 19, 2019; see also “Countervailable Duty Petition on Forged Steel Fluid End Blocks from Italy: Invitations for Consultations to Discuss the Countervailing Duty Petition” and “Countervailable Duty Petition on Forged Steel Fluid End Blocks from India: Invitations for Consultations to Discuss the Countervailing Duty Petition,” both dated December 20, 2019.

¹⁶ See Memoranda, “Consultations with Government Officials from India on the Countervailing Duty Petition on Forged Steel Fluid End Blocks from India,” dated January 6, 2020, “Consultations with Government Officials from the Federal Republic of Germany and the European Union on the Countervailing Duty Petition on Forged Steel Fluid End Blocks from the Federal Republic of Germany,” dated January 8, 2020, and “Consultations with Government Officials from Italy and the European Union on the Countervailing Duty Petition on Forged Steel Fluid End Blocks from Italy,” dated January 8, 2020.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁷ they do so for different purposes and pursuant to a separate and distinct authority. In addition, Commerce's determination is subject to limitations of time and information. Although this may result in different definitions of the like product, such differences do not render the decision of either agency contrary to law.¹⁸

¹⁷ See section 771(10) of the Act.

¹⁸ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁹ Based on our analysis of the information submitted on the record, we have determined that fluid end blocks, as defined in the scope, constitute a single domestic like product, and we have analyzed industry support in terms of that domestic like product.²⁰

¹⁹ See Volume I of the Petitions, at 26-28; see also Petition Supplement, at 5-7.

²⁰ For a discussion of the domestic like product analysis as applied to these cases and information regarding industry support, see Countervailing Duty Investigation Initiation Checklist: Forged Steel Fluid End Blocks from the People's Republic of China (China CVD Initiation Checklist), at Attachment II, Analysis of Industry Support for the Antidumping and Countervailing Duty Petitions Covering Forged Steel Fluid End Blocks the People's Republic of China, the Federal Republic of Germany, India, and Italy (Attachment II); see also Countervailing Duty Investigation Initiation Checklist: Forged Steel Fluid End Blocks from the Federal Republic of Germany (Germany CVD Initiation Checklist), at Attachment II; Countervailing Duty Investigation Initiation Checklist: Forged Steel Fluid End Blocks from India (India CVD Initiation Checklist), at Attachment II; and Countervailing Duty Investigation Initiation Checklist: Forged Steel Fluid End Blocks from Italy (Italy CVD Initiation Checklist), at Attachment II. These checklists are dated concurrently with this notice and on file electronically via ACCESS. Access to documents filed via ACCESS is also available in the Central Records Unit, Room B8024 of the main Department of Commerce building.

In determining whether the petitioners have standing under section 702(c)(4)(A) of the Act, we considered the industry support data contained in the Petitions with reference to the domestic like product as defined in the “Scope of the Investigations,” in the Appendix to this notice. To establish industry support, the petitioners provided the 2018 production of the domestic like product for the U.S. producers that support the Petitions.²¹ The petitioners estimated the production of the domestic like product for the entire domestic industry based on shipment/sales data, because shipments/sales and production of fluid end blocks correlate with one another and shipments/sales are a reasonable proxy for production in the fluid end blocks industry.²² The petitioners compared the production of the companies supporting the Petitions to the estimated total shipments/sales of the domestic like product for the entire domestic industry.²³ We relied on data provided by the petitioners for purposes of measuring industry support.²⁴

²¹ See Volume I of the Petitions, at 4-5 and Exhibit GEN-7.

²² See Volume I of the Petitions, at 4-5 and Exhibits GEN-1 and GEN-2; see also Petition Supplement, at 8.

²³ See Volume I of the Petitions, at 4-5 and Exhibits GEN-1, GEN-2, GEN-3 and GEN-7; see also Petition Supplement, at 8.

²⁴ See Volume I of the Petitions, at 4-5 and Exhibits GEN-1, GEN-2, GEN-3 and GEN-7; see also Petition Supplement, at 8. For further discussion, see China CVD Initiation Checklist, at Attachment II; see also Germany CVD Initiation Checklist, at Attachment II; India CVD Initiation Checklist, at Attachment II; and Italy CVD Initiation Checklist, at Attachment II.

Our review of the data provided in the Petitions, the Petition Supplement, and other information readily available to Commerce indicates that the petitioners have established industry support for the Petitions.²⁵ First, the Petitions established support from domestic producers (or workers) accounting for more than 50 percent of the total production of the domestic like product and, as such, Commerce is not required to take further action in order to evaluate industry support (e.g., polling).²⁶ Second, the domestic producers (or workers) have met the statutory criteria for industry support under section 702(c)(4)(A)(i) of the Act because the domestic producers (or workers) who support the Petitions account for at least 25 percent of the total production of the domestic like product.²⁷ Finally, the domestic producers (or workers) have met the statutory criteria for industry support under section 702(c)(4)(A)(ii) of the Act because the domestic producers (or workers) who support the Petitions account for more than 50 percent of the production of the domestic like product produced by that portion of the industry expressing support for, or opposition to, the Petitions.²⁸ Accordingly, Commerce determines that the Petitions were filed on behalf of the domestic industry, within the meaning of section 702(b)(1) of the Act.²⁹

²⁵ See China CVD Initiation Checklist, at Attachment II; see also Germany CVD Initiation Checklist, at Attachment II; India CVD Initiation Checklist, at Attachment II; and Italy CVD Initiation Checklist, at Attachment II.

²⁶ See section 702(c)(4)(D) of the Act; see also China CVD Initiation Checklist, at Attachment II; Germany CVD Initiation Checklist, at Attachment II; India CVD Initiation Checklist, at Attachment II; and Italy CVD Initiation Checklist, at Attachment II.

²⁷ See China CVD Initiation Checklist, at Attachment II; see also Germany CVD Initiation Checklist, at Attachment II; India CVD Initiation Checklist, at Attachment II; and Italy CVD Initiation Checklist, at Attachment II.

²⁸ See China CVD Initiation Checklist, at Attachment II; see also Germany CVD Initiation Checklist, at Attachment II; India CVD Initiation Checklist, at Attachment II; and Italy CVD Initiation Checklist, at Attachment II.

²⁹ See China CVD Initiation Checklist, at Attachment II; see also Germany CVD Initiation Checklist, at Attachment II; India CVD Initiation Checklist, at Attachment II; and Italy CVD Initiation Checklist, at Attachment II.

Injury Test

Because China, Germany, India, and Italy are “Subsidies Agreement Countries” within the meaning of section 701(b) of the Act, section 701(a)(2) of the Act applies to these investigations. Accordingly, the ITC must determine whether imports of the subject merchandise from China, Germany, India and/or Italy materially injure, or threaten material injury to, a U.S. industry.

Allegations and Evidence of Material Injury and Causation

The petitioners allege that imports of the subject merchandise are benefitting from countervailable subsidies and that such imports are causing, or threaten to cause, material injury to the U.S. industry producing the domestic like product. In addition, the petitioners allege that subject imports exceed the negligibility threshold provided for under section 771(24)(A) of the Act.³⁰ In CVD petitions, section 771(24)(B) of the Act provides that imports of subject merchandise from developing and least developed countries must exceed the negligibility threshold of four percent. The petitioners also demonstrate that subject imports from India, which has been designated as a developing country under section 771(36)(A) of the Act, exceed the negligibility threshold of four percent.³¹

³⁰ See Volume I of the Petitions, at 29-30 and Exhibit GEN-2.

³¹ Id.

The petitioners contend that the industry's injured condition is illustrated by a significant and increasing volume of subject imports; reduced market share; underselling and price depression or suppression; lost sales and revenues; and a decline in the domestic industry's financial performance and profitability.³² We have assessed the allegations and supporting evidence regarding material injury, threat of material injury, causation, as well as cumulation, and we have determined that these allegations are properly supported by adequate evidence, and meet the statutory requirements for initiation.³³

³² See Volume I of the Petitions, at 1, 25-26, 29-45 and Exhibits GEN-2, GEN-50, and GEN-51; see also Petition Supplement, at 9 and Exhibit SUP-GEN-1.

³³ See China CVD Initiation Checklist, at Attachment III, Analysis of Allegations and Evidence of Material Injury and Causation for the Antidumping and Countervailing Duty Petitions Covering Forged Steel Fluid End Blocks from the People's Republic of China, the Federal Republic of Germany, India, and Italy (Attachment III); see also Germany CVD Initiation Checklist, at Attachment III; India CVD Initiation Checklist, at Attachment III; and Italy CVD Initiation Checklist, at Attachment III.

Initiation of CVD Investigations

Based on the examination of the Petitions and supplemental responses, we find that they meet the requirements of section 702 of the Act. Therefore, we are initiating CVD investigations to determine whether imports of fluid end blocks from China, Germany, India, and Italy benefit from countervailable subsidies conferred by the Governments of China, Germany, India, and Italy. In accordance with section 703(b)(1) of the Act and 19 CFR 351.205(b)(1), unless postponed, we will make our preliminary determinations no later than 65 days after the date of this initiation.

China

Based on our review of the Petition for China, we find that there is sufficient information to initiate a CVD investigation on all of the 24 alleged programs. For a full discussion of the basis for our decision to initiate on each program, see China CVD Initiation Checklist. A public version of the initiation checklist for this investigation is available on ACCESS.

Germany

Based on our review of the Petition for Germany, we find that there is sufficient information to initiate a CVD investigation on all of the16 alleged programs. For a full discussion of the basis for our decision to initiate on each program, see Germany CVD Initiation Checklist. A public version of the initiation checklist for this investigation is available on ACCESS.

India

Based on our review of the Petition for India, we find that there is sufficient information to initiate a CVD investigation on 25 of the 29 alleged programs. For a full discussion of the basis for our decision to initiate (or not initiate) on each program, see India CVD Initiation Checklist. A public version of the initiation checklist for this investigation is available on ACCESS.

Italy

Based on our review of the Petition for Italy, we find that there is sufficient information to initiate a CVD investigation on 18 of the 20 alleged programs. For a full discussion of the basis for our decision to initiate (or not initiate) on each program, see Italy CVD Initiation Checklist. A public version of the initiation checklist for this investigation is available on ACCESS.

Respondent Selection

In the Petitions, the petitioner named 38 companies in China, five companies in Germany, two companies in India, and 18 companies in Italy, as producers/exporters of fluid end blocks.³⁴

³⁴ See Volume I of the Petitions, at 14-20.

In the event Commerce determines that the number of companies in each country is large and it cannot individually examine each company based upon Commerce's resources, where appropriate, Commerce intends to select mandatory respondents based on quantity and value (Q&V) questionnaires issued to potential respondents. Commerce normally selects mandatory respondents in CVD investigations using U.S. Customs and Border Protection (CBP) entry data for imports under the appropriate Harmonized Tariff Schedule of the United States (HTSUS) numbers listed in the scope of the investigations. However, for these investigations, the HTSUS numbers under which the subject merchandise would enter (7218.91.0030, 7218.99.0030, 7224.90.0015, 7224.90.0045, 7326.19.0010, 7326.90.8688, or 8413.91.9055) are basket categories containing a wide variety of manufactured steel products unrelated to fluid end blocks. We, therefore, cannot rely on CBP entry data in selecting respondents. Except as noted below for India, we instead intend to issue Q&V questionnaires to each potential respondent for which the petitioners have provided a complete address.

Exporters and producers of fluid end blocks from China, Germany and Italy that do not receive Q&V questionnaires by mail may still submit a response to the Q&V questionnaire and can obtain a copy of the Q&V questionnaire from the Enforcement and Compliance website, at http://trade.gov/enforcement/news.asp. Responses to the Q&V questionnaire must be submitted by the relevant Chinese, German and Italian exporters/producers no later than 5:00 p.m. ET on January 21, 2020. All Q&V responses must be filed electronically via ACCESS.

For India, the petitioner identified two companies as producers/exporters of fluid end blocks (i.e., Bharat Forge Limited and Ultra Engineers) and provided independent, third-party information as support.³⁵ We currently know of no additional producers/exporters of fluid end blocks from India. Accordingly, Commerce intends to examine all known producers/exporters in the investigation for India (i.e., the companies cited above).

³⁵ See Volume I of the Petitions, at 19 and Exhibit GEN-2; see also Petition Supplement, at 1 and Exhibit SUP-GEN-1.

Parties wishing to comment on respondent selection for India must do so within three business days of the publication of this notice in the Federal Register. Comments must be filed electronically using ACCESS. An electronically filed document must be received successfully, in its entirety, by ACCESS no later than 5:00 p.m. ET on the specified deadline.

Distribution of Copies of the Petitions

In accordance with section 702(b)(4)(A)(i) of the Act and 19 CFR 351.202(f), copies of the public version of the Petitions have been provided to the governments of Germany, India, Italy and China via ACCESS. To the extent practicable, we will attempt to provide a copy of the public version of the CVD Petitions to each exporter named in the CVD Petitions, as provided under 19 CFR 351.203(c)(2).

ITC Notification

We will notify the ITC of our initiation, as required by section 702(d) of the Act.

Preliminary Determinations by the ITC

The ITC will preliminarily determine, within 45 days after the date on which the CVD Petitions were filed, whether there is a reasonable indication that imports of fluid end blocks from Germany, India, Italy, and/or China are materially injuring, or threatening material injury to, a U.S. industry.³⁶ A negative ITC determination in any country will result in the investigation being terminated with respect to that country.³⁷ Otherwise, these CVD investigations will proceed according to statutory and regulatory time limits.

³⁶ See section 703(a)(2) of the Act.

³⁷ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁸ and, if the information is submitted to rebut, clarify, or correct factual information already on the record, to provide an explanation identifying the information already on the record that the factual information seeks to rebut, clarify, or correct.³⁹ Time limits for the submission of factual information are addressed in 19 CFR 351.301, which provides specific time limits based on the type of factual information being submitted. Interested parties should review the regulations prior to submitting factual information in these investigations.

³⁸ See 19 CFR 351.301(b).

³⁹ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum of the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁴⁰ Parties must use the certification formats provided in 19 CFR 351.303(g).⁴¹ Commerce intends to reject factual submissions if the submitting party does not comply with the applicable certification requirements.

⁴⁰ See section 782(b) of the Act.

⁴¹ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702(c)(2) and 777(i) of the Act and 19 CFR 351.203(c).

Dated: January 8, 2020.
Jeffrey I. Kessler,
Assistant Secretary for Enforcement and Compliance.

Appendix

Scope of the Investigations

The products covered by these investigations are forged steel fluid end blocks (fluid end blocks), whether in finished or unfinished form, and which are typically used in the manufacture or service of hydraulic pumps.

The term “forged” is an industry term used to describe the grain texture of steel resulting from the application of localized compressive force. Illustrative forging standards include, but are not limited to, American Society for Testing and Materials (ASTM) specifications A668 and A788.

For purposes of these investigations, the term “steel” denotes metal containing the following chemical elements, by weight: (i) Iron greater than or equal to 60 percent; (ii) nickel less than or equal to 8.5 percent; (iii) copper less than or equal to 6 percent; (iv) chromium greater than or equal to 0.4 percent, but less than or equal to 20 percent; and (v) molybdenum greater than or equal to 0.15 percent, but less than or equal to 3 percent. Illustrative steel standards include, but are not limited to, American Iron and Steel Institute (AISI) or Society of Automotive Engineers (SAE) grades 4130, 4135, 4140, 4320, 4330, 4340, 8630, 15-5, 17-4, F6NM, F22, F60, and XM25, as well as modified varieties of these grades.

The products covered by these investigations are: (1) Cut-to-length fluid end blocks with an actual height (measured from its highest point) of 8 inches (203.2 mm) to 40 inches (1,016.0 mm), an actual width (measured from its widest point) of 8 inches (203.2 mm) to 40 inches (1,016.0 mm), and an actual length (measured from its longest point) of 11 inches (279.4 mm) to 75 inches (1,905.0 mm); and (2) strings of fluid end blocks with an actual height (measured from its highest point) of 8 inches (203.2 mm) to 40 inches (1,016.0 mm), an actual width (measured from its widest point) of 8 inches (203.2 mm) to 40 inches (1,016.0 mm), and an actual length (measured from its longest point) up to 360 inches (9,144.0 mm).

The products included in the scope of these investigations have a tensile strength of at least 70 KSI (measured in accordance with ASTM A370) and a hardness of at least 140 HBW (measured in accordance with ASTM E10).

A fluid end block may be imported in finished condition (i.e., ready for incorporation into a pump fluid end assembly without further finishing operations) or unfinished condition (i.e., forged but still requiring one or more finishing operations before it is ready for incorporation into a pump fluid end assembly). Such finishing operations may include: (1) Heat treating; (2) milling one or more flat surfaces; (3) contour machining to custom shapes or dimensions; (4) drilling or boring holes; (5) threading holes; and/or (6) painting, varnishing, or coating.

The products included in the scope of these investigations may enter under Harmonized Tariff Schedule of the United States (HTSUS) subheadings 7218.91.0030, 7218.99.0030, 7224.90.0015, 7224.90.0045, 7326.19.0010, 7326.90.8688, or 8413.91.9055. While these HTSUS subheadings are provided for convenience and customs purposes, the written description of the scope of the investigations is dispositive.

[FR Doc. 2020-00490 Filed 1-14-20; 8:45 am]

BILLING CODE 3510-DS-P